NUCLEAR REGULATORY COMMISSION

[Docket No. 72-20; NRC-2017-0050]

Department of Energy; Three Mile Island 2 Independent Spent Fuel Storage Installation

AGENCY: Nuclear Regulatory Commission.

ACTION: License amendment application, docketing.

SUMMARY: The U.S. Nuclear Regulatory Commission (NRC) has docketed a license amendment application from the Department of Energy (DOE or the licensee) for amendment of Materials License No. SNM-2508, for the Three Mile Island 2 (TMI-2) independent spent fuel storage installation located at the Idaho National Laboratory in Butte County, Idaho. If granted, the amendment would update the licensee delegation of authority in the license, the technical specifications, and the final safety analysis report. These documents currently delegate authority under the license to the Manager, DOE Idaho Operations Office. The amendment would replace that reference with the Deputy Manager, Idaho Cleanup Project in each of the documents.

ADDRESSES: Please refer to Docket ID NRC-2017-0050 when contacting the NRC about the availability of information regarding this document. You may obtain publicly-available information related to this document using any of the following methods:

• Federal Rulemaking Web site: Go to http://www.regulations.gov and search for Docket ID NRC-2017-0050. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Jose R. Cuadrado, Office of Nuclear Material Safety and Safeguards, U.S. Nuclear Regulatory Commission, Washington, DC 20555-0001; telephone: 301-415-0606; email: Jose.Cuadrado@nrc.gov.

SUPPLEMENTARY INFORMATION:

I. Introduction

By letter dated September 8, 2016, DOE submitted to the NRC an application to amend the license, technical specifications, and the final safety analysis report, for the TMI-2 independent spent fuel storage installation located at the Idaho National Laboratory in Butte County, Idaho (ADAMS Accession No. ML16258A191). Materials License No. SNM-2508 authorizes the licensee to receive, store, and transfer canisters containing core debris and damaged spent nuclear fuel from the TMI-2 reactor. The proposed amendment would revise the licensee delegation of authority in the license, the technical specifications, and the final safety analysis report. These documents currently delegate authority under the license to the Manager, DOE Idaho Operations Office. This amendment would replace that reference with the Deputy Manager, Idaho Cleanup Project in each of the documents.

In a letter to DOE dated December 9, 2016, the NRC notified DOE that the application was acceptable to begin a technical review (ADAMS Accession No. ML16347A192). The NRC's Office of Nuclear Materials Safety and Safeguards has docketed this application under Docket No. 72-20. If the NRC approves the amendment, the approval will be documented in an amendment to NRC Materials License No. SNM-2508. The Commission will approve the license amendment if it determines that the request complies with the standards and requirements of the Atomic Energy Act of 1954, as amended, and the NRC's rules and regulations, and make findings consistent with the National Environmental Policy Act and part 51 of title 10 of the Code of Federal Regulations (10 CFR). These findings will be documented in a safety evaluation report.

II. Opportunity To Request a Hearing

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2), and provide notice of the action taken and an opportunity for interested persons to request a hearing on whether the action should be rescinded or modified.

Dated at Rockville, Maryland, this 14th day of February, 2017.
For the Nuclear Regulatory Commission.
Bernard H. White, IV,
Acting Chief, Spent Fuel Licensing Branch, Division of Spent Fuel Management, Office of Nuclear Material Safety and Safeguards.

[FR Doc. 2017-03436 Filed 2-21-17; 8:45 am]

BILLING CODE 7590-01-P